DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See SUPPLEMENTARY INFORMATION section for applicable date(s).

FOR FURTHER INFORMATION CONTACT: OFAC: Bradley T. Smith, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The Specially Designated Nationals and Blocked Persons List and additional information concerning OFAC sanctions programs are available on OFAC's website (https://www.treasury.gov/ofac).

Notice of OFAC Actions

On October 26, 2020, OFAC determined that the property and interests in property subject to U.S. jurisdiction of the following persons are blocked under the relevant sanctions authorities listed below.

Individuals

1. KARBASIAN, Masoud (a.k.a. KARBASIAN, Mas'ud); DOB 14 Jun 1956; POB Isfahan, Iran; nationality Iran; Additional Sanctions Information—Subject to Secondary Sanctions; Gender Male; Passport D10002096 (Iran) expires 26 Aug 2022; National ID No. 1286504104 (Iran) (individual) [SDGT] [IFSR] (Linked To: NATIONAL IRANIAN OIL COMPANY).

Designated pursuant to section 1(a)(iii)(E) of Executive Order 13224 of September 23, 2001, “Blocking Property and Prohibiting Transactions With Persons Who Commit, Threaten To Commit, or Support Terrorism,” (E.O. 13224), 3 CFR, 2001 Comp., p. 786, as amended by Executive Order 13886 of September 9, 2019, “Modernizing Sanctions to Combat Terrorism,” 84 FR 48041 (E.O. 13224, as amended) for being a leader or official of NATIONAL IRANIAN OIL COMPANY, a person whose property and interests in property are blocked pursuant to E.O. 13224, as amended.

2. PUREBRAHIM, Ali Akbar (a.k.a. POUREBRAHIM, Ali Akbar; a.k.a. POUR-EBRAHIM, Ali-Akbar; a.k.a. POUREBRAHIMABADI, Aliakbar; a.k.a. PUREBRAHIMABADI, Ali Akbar), Iran; Lausanne, Switzerland; DOB 22 Dec 1987; nationality Iran; Additional Sanctions Information—Subject to Secondary Sanctions; Gender Male; Passport X42276294 (Iran) expires 21 Sep 2022 (individual) [SDGT] [IFSR] (Linked To: QASEMI, Rostam).

Designated pursuant to section 1(a)(iii)(C) of E.O. 13224, as amended, for having materially assisted, sponsored, or provided financial, material, or technological support for, or goods or services to or in support of, Rostam QASEMI, a person whose property and interests in property are blocked pursuant to E.O. 13224, as amended.

3. SARDASHTI, Nasrollah, Iran; DOB 22 Nov 1958; POB Iran; nationality Iran; Additional Sanctions Information—Subject to Secondary Sanctions; Gender Male; Passport E194742 (Iran) (individual) [SDGT] [IFSR] (Linked To: NATIONAL IRANIAN TANKER COMPANY).

Designated pursuant to section 1(a)(iii)(E) of E.O. 13224, as amended, for being a leader or official of NATIONAL IRANIAN TANKER COMPANY, a person whose property and interests in property are blocked pursuant to E.O. 13224, as amended.

4. ZANGANEH, Viyan (a.k.a. ZANGANEH, Vian); DOB 23 Sep 1974; nationality Iran; Additional Sanctions Information—Subject to Secondary Sanctions; Gender Female; Passport E34651195 (Iran) expires 26 Aug 2020 (individual) [SDGT] [IFSR] (Linked To: ISLAMIC REVOLUTIONARY GUARD CORPS (IRGC)-QODS FORCE).

Designated pursuant to section 1(a)(iii)(C) of E.O. 13224, as amended, for having materially assisted, sponsored, or provided financial, material, or technological support for, or goods or services to or in support of, Iran's ISLAMIC REVOLUTIONARY GUARD CORPS (IRGC)-QODS FORCE, a person whose property and interests in property are blocked pursuant to E.O. 13224, as amended.

5. ZANGANEH, Bijan, Iran; DOB Mar 1952; alt. DOB Mar 1953; POB Kermanshah, Iran; nationality Iran; Additional Sanctions Information—Subject to Secondary Sanctions; Gender Male (individual) [SDGT] [IFSR] (Linked To: MINISTRY OF PETROLEUM).

Designated pursuant to section 1(a)(iii)(E) of E.O. 13224, as amended, for being a leader or official of Iran's MINISTRY OF PETROLEUM, a person whose property and interests in property are blocked pursuant to E.O. 13224, as amended.

6. MOHAMMADI, Behzad, Iran; DOB 1966; nationality Iran; Additional Sanctions Information—Subject to Secondary Sanctions; Gender Male (individual) [SDGT] [IFSR] (Linked To: NATIONAL PETROCHEMICAL COMPANY).

Designated pursuant to section 1(a)(iii)(E) of E.O. 13224, as amended, for being a leader or official of Iran's NATIONAL PETROCHEMICAL COMPANY, a person whose property and interests in property are blocked pursuant to E.O. 13224, as amended.

7. SADIQABADI, Alireza, Iran; DOB 1982; POB Tehran, Iran; nationality Iran; Additional Sanctions Information—Subject to Secondary Sanctions; Gender Male (individual) [SDGT] [IFSR] (Linked To: NATIONAL IRANIAN OIL REFINING AND DISTRIBUTION COMPANY).

Designated pursuant to section 1(a)(iii)(E) of E.O. 13224, as amended, for being a leader or official of NATIONAL IRANIAN OIL REFINING AND DISTRIBUTION COMPANY, a person whose property and interests in property are blocked pursuant to E.O. 13224, as amended.

8. MADANIPOUR, Mahmoud, 93 Chiltern Road, Sutton, SM2 5QZ, Surry, United Kingdom; Iran; DOB 19 Jul 1978; nationality Iran; Additional Sanctions Information—Subject to Secondary Sanctions; Gender Male; Passport Y42996343 (Iran) issued 10 Oct 2022 (individual) [SDGT] [IFSR] (Linked To: MOBIN INTERNATIONAL LIMITED).

Designated pursuant to section 1(a)(iii)(A) of E.O. 13224, as amended, for having acted or purposed to have acted for or on behalf of, directly or indirectly, MOBIN INTERNATIONAL LIMITED, a person whose property and interests in property are blocked pursuant to E.O. 13224, as amended.

Entities

1. ATLANTIC SHIP MANAGEMENT COMPANY (a.k.a. ATLANTIC SHIP MANAGEMENT LLC), Office Number 3803, Churchill Tower, 38 Floor, Business Bay, Bur Dubai, Burj Khalifa, Dubai, United Arab Emirates; P.O. Box 128650, No 1902, Churchill Tower, Business Bay, Dubai, United Arab Emirates; Additional Sanctions Information—Subject to Secondary Sanctions; Registration Number 663558 (United Arab Emirates) [SDGT] [IFSR] (Linked To: NATIONAL IRANIAN TANKER COMPANY).

Designated pursuant to section 1(a)(iii)(A) of E.O. 13224, as amended, for being owned, controlled, or directed by, or having acted or purported to act for or on behalf of, directly or indirectly, NATIONAL IRANIAN TANKER COMPANY, a person whose property and interests in property are blocked pursuant to E.O. 13224, as amended.

2. ATLAS SHIP MANAGEMENT (a.k.a. ATLAS SHIPS MANAGEMENT), Fujairah, United Arab Emirates; Additional Sanctions Information—Subject to Secondary Sanctions [SDGT] [IFSR] (Linked To: NATIONAL IRANIAN TANKER COMPANY).

Designated pursuant to section 1(a)(iii)(A) of E.O. 13224, as amended, for being owned, controlled, or directed by, or having acted or purported to act for or on behalf of, directly or indirectly, NATIONAL IRANIAN TANKER COMPANY, a person whose property and interests in property are blocked pursuant to E.O. 13224, as amended.

3. MINISTRY OF PETROLEUM (a.k.a. IRANIAN MINISTRY OF PETROLEUM), Iranian Ministry of Petroleum Building, Taleghani Ave., Tehran, Iran; Additional Sanctions Information—Subject to Secondary Sanctions [SDGT] [IFSR] (Linked To: ISLAMIC REVOLUTIONARY GUARD CORPS (IRGC)-QODS FORCE).

Designated pursuant to section 1(a)(iii)(B) of E.O. 13224, as amended, for owning or controlling, directly or indirectly, NATIONAL IRANIAN OIL COMPANY, a person whose property and interests in property are blocked pursuant to E.O. 13224, as amended, as well as pursuant to section 1(a)(iii)(C) of E.O. 13224, as amended, for having materially assisted, sponsored, or provided financial, material, or technological support for, or goods or services to or in support of, Iran's ISLAMIC REVOLUTIONARY GUARD CORPS (IRGC)-QODS FORCE, a person whose property and interests in property are blocked pursuant to E.O. 13224, as amended.

4. NATIONAL IRANIAN OIL COMPANY (a.k.a. NIOC), Hafez Crossing, Taleghani Avenue, P.O. Box 1863 and 2501, Tehran, Iran; National Iranian Oil Company Building, Taleghani Avenue, Hafez Street, Tehran, Iran; website www.nioc.ir; IFCA Determination—Involved in Energy Sector; Additional Sanctions Information—Subject to Secondary Sanctions; all offices worldwide [IRAN] [SDGT] [IFSR] [IFCA] (Linked To: ISLAMIC REVOLUTIONARY GUARD CORPS (IRGC)-QODS FORCE; Linked To: MINISTRY OF PETROLEUM).

Designated pursuant to section 1(a)(iii)(C) of E.O. 13224, as amended, for having materially assisted, sponsored, or provided financial, material, or technological support for, or goods or services to or in support of, Iran's ISLAMIC REVOLUTIONARY GUARD CORPS (IRGC)-QODS FORCE, a person whose property and interests in property are blocked pursuant to E.O. 13224, as amended.

5. NATIONAL IRANIAN TANKER COMPANY (a.k.a. NITC), NITC Building, 67-88, Shahid Atefi Street, Africa Avenue, Tehran, Iran; No. 65 and 67 Shahid Atefi Street, Africa Blvd., Tehran, Iran; website www.nitc.co.ir; Email Address info@nitc.co.ir; alt. Email Address administrator@nitc.co.ir; IFCA Determination—Involved in the Shipping Sector; Additional Sanctions Information—Subject to Secondary Sanctions; National ID No. 4891 (Iran); Telephone (98)(21)(66153220); Telephone (98)(21)(23803202); Telephone (98)(21)(23803303); Telephone (98)(21)(66153224); Telephone (98)(21)(23802230); Telephone (98)(9121115315); Telephone (98)(9128091642); Telephone (98)(9127389031); Fax (98)(21)(22224537); Fax (98)(21)(23803318); Fax (98)(21)(22013392); Fax (98)(21)(22058763) [IRAN] [SDGT] [IFSR] [IFCA] (Linked To: ISLAMIC REVOLUTIONARY GUARD CORPS (IRGC)-QODS FORCE).

Designated pursuant to section 1(a)(iii)(C) of E.O. 13224, as amended, for having materially assisted, sponsored, or provided financial, material, or technological support for, or goods or services to or in support of, Iran's ISLAMIC REVOLUTIONARY GUARD CORPS (IRGC)-QODS FORCE, a person whose property and interests in property are blocked pursuant to E.O. 13224, as amended.

BILLING CODE 4810-AL-P

BILLING CODE 4810-AL-C

6. IMAM KHOMEINI SHAZAND OIL REFINING COMPANY (a.k.a. IKORC; a.k.a. IMAM KHOMEINI ZHAZAND OIL REFINING), 20th Km of Borujerd Road, Arak 38671-41111, Iran; Additional Sanctions Information—Subject to Secondary Sanctions; National ID No. 144518 (Iran) [SDGT] [IFSR] (Linked To: MINISTRY OF PETROLEUM).

Designated pursuant to section 1(a)(iii)(A) of E.O. 13224, as amended, for being owned, controlled, or directed by, or having acted or purported to act for or on behalf of, directly or indirectly, Iran's MINISTRY OF PETROLEUM, a person whose property and interests in property are blocked pursuant to E.O. 13224, as amended.

7. IRANIAN OIL PIPELINES AND TELECOMMUNICATION CO. (a.k.a. IOPTC), Qarani Street, No. 135, Tehran, Tehran Province, Iran; Additional Sanctions Information—Subject to Secondary Sanctions [SDGT] [IFSR] (Linked To: MINISTRY OF PETROLEUM).

Designated pursuant to section 1(a)(iii)(A) of E.O. 13224, as amended, for being owned, controlled, or directed by, or having acted or purported to act for or on behalf of, directly or indirectly, Iran's MINISTRY OF PETROLEUM, a person whose property and interests in property are blocked pursuant to E.O. 13224, as amended.

8. NATIONAL IRANIAN OIL ENGINEERING AND CONSTRUCTION COMPANY (a.k.a. NIOEC), No. 247 Ostad Nejatollahi Avenue, Corner of Shahid Kalantary Street, Tehran, Iran; Additional Sanctions Information—Subject to Secondary Sanctions; National ID No. 89299 (Iran) [SDGT] [IFSR] (Linked To: MINISTRY OF PETROLEUM).

Designated pursuant to section 1(a)(iii)(A) of E.O. 13224, as amended, for being owned, controlled, or directed by, or having acted or purported to act for or on behalf of, directly or indirectly, Iran's MINISTRY OF PETROLEUM, a person whose property and interests in property are blocked pursuant to E.O. 13224, as amended.

9. NATIONAL IRANIAN OIL PRODUCTS DISTRIBUTION COMPANY (a.k.a. NIOPDC), No 1, Iransahr Building, Opposite of Honarmandan Park Corner of Iransahr Street, Taleghani Avenue, Tehran, Iran; Additional Sanctions Information—Subject to Secondary Sanctions; National ID No. 67337 (Iran) [SDGT] [IFSR] (Linked To: MINISTRY OF PETROLEUM).

Designated pursuant to section 1(a)(iii)(A) of of September 9, 2019, “Modernizing Sanctions to Combat Terrorism,” 84 FR 48041 (E.O. 13224, as amended, for being owned, controlled, or directed by, or having acted or purported to act for or on behalf of, directly or indirectly, Iran's MINISTRY OF PETROLEUM, a person whose property and interests in property are blocked pursuant to E.O. 13224, as amended.

10. NATIONAL IRANIAN OIL REFINING AND DISTRIBUTION COMPANY (a.k.a. NIORDC), 4 Varsho Street, Tehran, Iran; P.O. Box 15815/3499, No. 4 Varsho Street, 1598666611, Iran; Additional Sanctions Information—Subject to Secondary Sanctions; National ID No. 89152 (Iran) [SDGT] [IFSR] (Linked To: MINISTRY OF PETROLEUM).

Designated pursuant to section 1(a)(iii)(A) of E.O. 13224, as amended, for being owned, controlled, or directed by, or having acted or purported to act for or on behalf of, directly or indirectly, Iran's MINISTRY OF PETROLEUM, a person whose property and interests in property are blocked pursuant to E.O. 13224, as amended.

11. NATIONAL PETROCHEMICAL COMPANY (a.k.a. THE NATIONAL PETROCHEMICAL COMPANY; a.k.a. “NIPC”; a.k.a. “NPC”), No. 104, North Sheikh Bahaei Blvd., Molla Sadra Ave., Tehran, Iran; No 144, North Sheikh Bahayi Avenue, Mulla Sadra Street, Vanak Square, Tehran, Iran; P.O. Box 19395-6896, Tehran, Iran; Additional Sanctions Information—Subject to Secondary Sanctions; National ID No. 9614 (Iran); all offices worldwide [IRAN] [SDGT] [IFSR] (Linked To: MINISTRY OF PETROLEUM).

Designated pursuant to section 1(a)(iii)(A) of E.O. 13224, as amended, for being owned, controlled, or directed by, or having acted or purported to act for or on behalf of, directly or indirectly, Iran's MINISTRY OF PETROLEUM, a person whose property and interests in property are blocked pursuant to E.O. 13224, as amended.

12. MOBIN HOLDING LIMITED (f.k.a. GOLDEN CROWN OVERSEAS LIMITED), 22 Long Acre, Long Acre, London WC2E 9LY, United Kingdom; Additional Sanctions Information—Subject to Secondary Sanctions; Registration Number 09745038 (United Kingdom) [SDGT] [IFSR] (Linked To: MADANIPOUR, Mahmoud).

Designated pursuant to section 1(a)(iii)(A) of E.O. 13224, as amended, for being owned, controlled, or directed by, or having acted or purported to act for or on behalf of, directly or indirectly, Mahmoud MADANIPOUR, a person whose property and interests in property are blocked pursuant to E.O. 13224, as amended.

13. MOBIN INTERNATIONAL LIMITED (a.k.a. “MOBIN INTERNATIONAL LTD.”), Office 2403, Ahmad-Abberrhaim al-Attar, Dubai, United Arab Emirates; website www.mobinogp.com; Additional Sanctions Information—Subject to Secondary Sanctions [SDGT] [IFSR] (Linked To: NATIONAL IRANIAN OIL PRODUCTS DISTRIBUTION COMPANY).

Designated pursuant to section 1(a)(iii)(C) of E.O. 13224, as amended, for having materially assisted, sponsored, or provided financial, material, or technological support for, or goods or services to or in support of, NATIONAL IRANIAN OIL PRODUCTS DISTRIBUTION COMPANY, a person whose property and interests in property are blocked pursuant to E.O. 13224, as amended.

14. OMAN FUEL TRADING LTD, 22 Long Acre, Long Acre, London WC2E 9LY, United Kingdom; 51 Creighton Road, London W5 4SH, United Kingdom; Additional Sanctions Information—Subject to Secondary Sanctions; Registration Number 11751545 (United Kingdom) [SDGT] [IFSR] (Linked To: MADANIPOUR, Mahmoud).

Designated pursuant to section 1(a)(iii)(A) of E.O. 13224, as amended, for being owned, controlled, or directed by, or having acted or purported to act for or on behalf of, directly or indirectly, Mahmoud MADANIPOUR, a person whose property and interests in property are blocked pursuant to E.O. 13224, as amended.

Vessels

1. LONGBOW LAKE (f.k.a. GULF FALCON; f.k.a. GULF GLORY; f.k.a. NICHINORI) Crude Oil Tanker Honduras flag; Additional Sanctions Information—Subject to Secondary Sanctions; Vessel Registration Identification IMO 9237539 (vessel) [SDGT] [IFSR] (Linked To: NATIONAL IRANIAN OIL COMPANY).

Identified pursuant to E.O. 13224, as amended, as property in which NATIONAL IRANIAN OIL COMPANY, a person whose property and interests in property are blocked pursuant to E.O. 13224, as amended, has an interest.

2. WU XIAN Crude Oil Tanker Panama flag; Additional Sanctions Information—Subject to Secondary Sanctions; Vessel Registration Identification IMO 9102239 (vessel) [SDGT] [IFSR] (Linked To: NATIONAL IRANIAN OIL COMPANY).

Identified pursuant to E.O. 13224, as amended, as property in which NATIONAL IRANIAN OIL COMPANY, a person whose property and interests in property are blocked pursuant to E.O. 13224, as amended, has an interest.

Dated: October 18, 2023.
Bradley T. Smith,
Director, Office of Foreign Assets Control, U.S. Department of the Treasury.

[FR Doc. 2023-23346 Filed 10-20-23; 8:45 am]

BILLING CODE 4810-AL-P